DEPARTMENT OF COMMERCE

Foreign-Trade Zones Board

[Order No. 1245]

Expansion of Foreign-Trade Zone 153, San Diego, CA

Pursuant to its authority under the Foreign-Trade Zones Act of June 18, 1934, as amended (19 U.S.C. 81a-81u), the Foreign-Trade Zones Board (the Board) adopts the following Order:

Whereas, the City of San Diego, California, grantee of Foreign-Trade Zone 153, submitted an application to the Board for authority to expand FTZ 153 to include a new site (Site 8) at the Ocean View Hills Corporate Center/Otay Mesa within the San Diego Customs port of entry (FTZ Docket 7-2002; filed 1/30/02);

Whereas, notice inviting public comment was given in the Federal Register (67 FR 6678, 2/13/02) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 153 is approved, subject to the Act and the Board's regulations, including Section 400.28.

Signed at Washington, DC, this 23rd day of August 2002.
Faryar Shirzad,
Assistant Secretary of Commerce, for Import Administration, Alternate Chairman, Foreign-Trade Zones Board.

Attest:

Dennis Puccinelli,
Executive Secretary.

[FR Doc. 02-22745 Filed 9-5-02; 8:45 am]

BILLING CODE 3510-DS-P